DEPARTMENT OF COMMERCE

Foreign-Trade Zones Board

[S-101-2017]

Approval of Expansion of Subzone 29F; Hitachi Automotive Systems Americas, Inc.; Berea, Kentucky

On June 29, 2017, the Executive Secretary of the Foreign-Trade Zones (FTZ) Board docketed an application submitted by the Louisville & Jefferson County Riverport Authority, grantee of FTZ 29, requesting an expansion of Subzone 29F subject to the existing activation limit of FTZ 29, on behalf of Hitachi Automotive Systems Americas, Inc., in Berea, Kentucky.

The application was processed in accordance with the FTZ Act and Regulations, including notice in the Federal Register inviting public comment (82 FR 31044, July 5, 2017). The FTZ staff examiner reviewed the application and determined that it meets the criteria for approval. Pursuant to the authority delegated to the FTZ Board Executive Secretary (15 CFR Sec. 400.36(f)), the application to expand Subzone 29F was approved on August 25, 2017, subject to the FTZ Act and the Board's regulations, including Section 400.13, and further subject to FTZ 29's 2,000-acre activation limit.

Dated: September 5, 2017.
Andrew McGilvray,
Executive Secretary.

[FR Doc. 2017-19171 Filed 9-8-17; 8:45 am]

BILLING CODE 3510-DS-P